DEPARTMENT OF COMMERCE

International Trade Administration

New Mexico Institute of Mining and Technology, et al.; Notice of Consolidated Decision on Applications for Duty-Free Entry of Scientific Instruments

This is a decision pursuant to Section 6(c) of the Educational, Scientific, and Cultural Materials Importation Act of 1966 (Pub. L. 89-651, as amended by Pub. 106-36; 80 Stat. 897; 15 CFR part 301). Related records can be viewed between 8:30 a.m. and 5 p.m. in Room 2104, U.S. Department of Commerce, 14th and Constitution Ave., NW., Washington, DC.

Comments: None received. Decision: Approved. We know of no instruments of equivalent scientific value to the foreign instruments described below, for such purposes as each is intended to be used, that was being manufactured in the United States at the time of its order.

Docket Number: 08-040. Applicant: New Mexico Institute of Mining and Technology; Socorro, New Mexico 87801. Instrument: Unit Telescope. Manufacturer: Advanced Mechanical and Optical Systems SA (AMOS), Belgium. Intended Use: See notice at 73 FR 52644, September 10, 2008. Reasons: The instrument has the following features which are essential to the research. The instrument is able to be relocated, the functions of the instrument are able to be controlled and monitored over a network connection, and the instrument has an aperture greater than one-meter.

Docket Number: 08-042. Applicant: University of Alabama at Birmingham, Birmingham, AL 35294. Instrument: FIE Vitrobot. Manufacturer: FEI Company, the Netherlands. Intended Use: See notice at 73 FR 52644, September 10, 2008. Reasons: The instrument has a controlled environmental chamber and the capability of fully automated operation. These features are required for the research.

Dated: September 30, 2008.
Faye Robinson,
Director, Statutory Import Programs Staff, Import Administration.

[FR Doc. E8-23583 Filed 10-6-08; 8:45 am]

BILLING CODE 3510-DS-M